DEPARTMENT OF JUSTICE

[OMB Number 1122-0008]

Agency Information Collection Activities; Proposed eCollection eComments Requested; Extension of a Previously Approved Collection; Semiannual Progress Report for Enhanced Training and Services To End Abuse in Later Life Program (Abuse in Later Life Program)

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until January 31, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Abuse in Later Life Program funds projects that support a comprehensive approach to addressing elder abuse in their communities. These projects provide training to criminal justice professionals to enhance their ability to address elder abuse, neglect, and exploitation; provide cross-training opportunities to professionals working with older victims; establish or support a coordinated community response to elder abuse; and provide or enhance services for victims who are 50 years of age or older. Eligible applicants are limited to: States, units of local government, Tribal governments or Tribal organizations, population specific organizations with demonstrated experience in assisting individuals over 50 years of age, victim service providers with demonstrated experience in addressing domestic violence, dating violence, sexual assault, and stalking, and State, Tribal, or territorial domestic violence or sexual assault coalitions.

Overview of This Information Collection

1. Type of Information Collection: Extension of a previously approved collection.

2. The Title of the Form/Collection: Semiannual Progress Report for Enhanced Training and Services to End Abuse in Later Life Program.

3. The agency form number, if any, and the applicable component of the Department sponsoring the collection: 1122-0008.

4. Affected public who will be asked or required to respond, as well as the obligation to respond: Grantees from the Abuse in Later Life Program. The affected public includes the approximately 15 grantees of the Abuse in Later Life Program. Abuse in Later Life Program grants may be used for training programs to assist law enforcement officers, prosecutors, and relevant officers of Federal, State, Tribal, and local courts in recognizing, addressing, investigating, and prosecuting instances of elder abuse, neglect, and exploitation and violence against individuals with disabilities, including domestic violence and sexual assault, against older or disabled individuals. Grantees fund projects that focus on providing training for criminal justice professionals to enhance their ability to address elder abuse, neglect and exploitation in their communities and enhanced services to address these crimes.

5. An estimate of the total number of respondents and the amount of time estimated for an average respondent to respond: It is estimated that it will take the approximately 15 respondents (grantees from the Abuse in Later Life Program) approximately one hour to complete a semi-annual progress report. The semi-annual progress report is divided into sections that pertain to the different types of grantee activities.

6. An estimate of the total annual burden (in hours) associated with the collection: The total annual hour burden to complete the data collection forms is 30 hours, that is 15 grantees completing a form twice a year with an estimated completion time for the form being one hour.

7. The total annual hour burden to complete the data collection forms is 30 hours, that is 15 grantees completing a form twice a year with an estimated completion time for the form being one hour.

8. An estimate of the total annual cost burden associated with the collection, if applicable: The annualized costs to the Federal Government resulting from the OVW staff review of the progress reports submitted by grantees are estimated to be $2016.

Total Burden Hours
Activity | Number of respondents | Frequency (semiannually) | Total annual responses | Time per response (hour) | Total annual burden (hours)
Progress Report Form | 15 | 2 | 30 | 1 | 30
Unduplicated Totals | 15 |  | 30 |  | 30

If additional information is required contact: Darwin Arceo, Department Clearance Officer, United States Department of Justice, Justice Management Division, Policy and Planning Staff, Two Constitution Square, 145 N Street NE, 4W-218, Washington, DC.

Dated: November 26, 2024.
Darwin Arceo,
Department Clearance Officer for PRA, U.S. Department of Justice.

[FR Doc. 2024-28177 Filed 11-29-24; 8:45 am]

BILLING CODE 4410-FX-P